DEPARTMENT OF VETERANS AFFAIRS

38 CFR Part 77

RIN 2900-AP07

Grants for Adaptive Sports Programs for Disabled Veterans and Disabled Members of the Armed Forces

AGENCY: Department of Veterans Affairs.

ACTION: Final rule.

SUMMARY: This final rule amends Department of Veterans Affairs (VA) regulations to establish a new program to provide grants to eligible entities to provide adaptive sports activities to disabled veterans and disabled members of the Armed Forces. This rulemaking is necessary to implement a change in the law that authorizes VA to make grants to entities other than the United States Olympic Committee for adaptive sports programs. It establishes procedures for evaluating grant applications under this grant program, and otherwise administering the grant program. This rule implements section 5 of the VA Expiring Authorities Extension Act of 2013.

DATES: Effective Date: This final rule is effective May 4, 2015.

FOR FURTHER INFORMATION CONTACT: Michael F. Welch, Program Specialist, Office of National Veterans Sports Programs and Special Events (002C), Department of Veterans Affairs, 810 Vermont Ave. NW., Washington, DC 20420, (202) 632-7136. (This is not a toll-free number).

SUPPLEMENTARY INFORMATION: VA is required by 38 U.S.C. 521A to “carry out a program under which the Secretary may make grants to eligible entities for planning, developing, managing, and implementing programs to provide adaptive sports opportunities for disabled veterans and disabled members of the Armed Forces.” On July 1, 2014, VA published an interim final rule in the Federal Register, 79 FR 37211, establishing regulations for conducting the grant program including evaluation of grant applications and otherwise administering the grant program in accordance with the law.

Interested persons were invited to submit written comments on or before September 2, 2014. We received two comments on the interim final rule from two individuals. One commenter praised the adaptive sports programs described in the interim final rule, noting that they “would be beneficial in so many ways” for disabled veterans, and stated that taking care of veterans “should be one of the highest, if not the highest, priorities of our government.” We agree that these programs are very beneficial to disabled veterans and appreciate the comment.

Another commenter also stated that adaptive sports programs would be beneficial for disabled veterans and urged the Federal government to “provide ways for these people to enjoy live [sic] to their fullest.” The commenter noted that these programs will help them reintegrate into society. We agree with the commenter these programs are beneficial and VA will continue to explore ways to improve the lives of disabled veterans. However, VA does not make any changes based on the submitted comments.

We are making a minor technical correction. The interim final rule text failed to include an authority citation. Therefore, we are adding the authority citation in this final rule.

For the reasons stated above, the interim final rule is adopted with change.

Effect of Rulemaking

The Code of Federal Regulations, as revised by this rulemaking, represents the exclusive legal authority on this subject. No contrary rules or procedures will be authorized. All VA guidance will be read to conform with this rulemaking if possible or, if not possible, such guidance will be superseded by this rulemaking.

Administrative Procedure Act

In the interim final rule, 79 FR 37211, 37216, VA cited section 5 of Public Law 113-59 (December 20, 2013) as the authority to issue the rulemaking without prior notice and opportunity to comment. As previously discussed, VA received two comments. Before issuing this final rule, VA considered both of the comments which supported the rulemaking and did not warrant any change to the rulemaking.

Paperwork Reduction Act

The Paperwork Reduction Act of 1995 (at 44 U.S.C. 3507) requires VA to consider the impact of paperwork and other information collection burdens imposed on the public. Under 44 U.S.C. 3507(a), an agency may not collect or sponsor the collection of information, nor may it impose an information collection requirement unless it displays a currently valid Office of Management and Budget (OMB) control number. See also 5 CFR 1320.8(b)(3)(vi).

This final rule contains approved information collections that are within the scope of OMB control numbers 4040-0004 (formerly 0348-0043) for Standard Form 424 and 4040-0008 (formerly 0348-0041) for Standard Form 424C. The final rule also contains provisions that constitute a new information collection. We summarized and sought public comment on these provisions, found in §§ 77.4, 77.8, 77.9, 77.13, 77.16, and 77.19, in the interim final rule published in the Federal Register on July 1, 2014. 79 FR 37211. As required by the Paperwork Reduction Act of 1995 (at 44 U.S.C. 3507(d)), VA submitted the collection to OMB for its review. OMB approved the new information collection and assigned OMB control number 2900-0820.

This final rule updates §§ 77.4, 77.8, 77.9, 77.13, 77.16, and 77.19 by adding this new control number and updates §§ 77.4, 77.6, and 77.9 by removing the references to obsolete OMB control numbers 0348-0041 and 0348-0043 and inserting in their place OMB control numbers 4040-0008 and 4040-0004, respectively.

Regulatory Flexibility Act

The Secretary hereby certifies that this final rule will not have a significant economic impact on a substantial number of small entities as they are defined in the Regulatory Flexibility Act, 5 U.S.C. 601-612. Due to demographic, economic, infrastructure, and many other factors, a large percentage of small adaptive sports entities do not have sufficient participants, programs and outreach to qualify as an eligible entity under Public Law 113-59. In regions where the disabled veteran population is small relative to participants needed in the entity's applicable adaptive sports areas of expertise, an adaptive sports entity faces constraints in developing a viable grant program. Therefore, the number of small adaptive sports entities involved will be few and their existing programs that meet threshold criteria for eligibility will indicate competence to conduct a viable adaptive sports grant program. There will be no economic impact on any of the eligible entities, as they are not required to provide matching funds to obtain the maximum grant allowance as established under 38 U.S.C. 521A. Therefore, pursuant to 5 U.S.C. 605(b), this rulemaking is exempt from the initial and final regulatory flexibility analysis requirements of sections 603 and 604.

Executive Orders 12866 and 13563

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 12866 (Regulatory Planning and Review) defines a “significant regulatory action,” which requires review by OMB, unless OMB waives such review, as “any regulatory action that is likely to result in a rule that may: (1) Have an annual effect on the economy of $100 million or more or adversely affect in a material way the economy, a sector of the economy, productivity, competition, jobs, the environment, public health or safety, or State, local, or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in this Executive Order.”

The economic, interagency, budgetary, legal, and policy implications of this final rule have been examined, and it has been determined not to be a significant regulatory action under Executive Order 12866. VA's impact analysis can be found as a supporting document at http://www.regulations.gov, usually within 48 hours after the rulemaking document is published. Additionally, a copy of the rulemaking and its impact analysis are available on VA's Web site at http://www.va.gov/orpm/, by following the link for VA Regulations Published from FY 2004 through FYTD.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This final rule will have no such effect on State, local, and tribal governments, or on the private sector.

Catalog of Federal Domestic Assistance

The Catalog of Federal Domestic Assistance number and title for the program affected by this document is 64.034, Grants for Adaptive Sports Programs for Disabled Veterans and Disabled Members of the Armed Forces.

Signing Authority

The Secretary of Veterans Affairs, or designee, approved this document and authorized the undersigned to sign and submit the document to the Office of the Federal Register for publication electronically as an official document of the Department of Veterans Affairs. Jose D. Riojas, Chief of Staff, Department of Veterans Affairs, approved this document on April 16, 2015, for publication.

List of Subjects in 38 CFR Part 77

Administrative practice and procedure, Grant programs—health, Grant programs—veterans, Health care, Health facilities, Reporting and recordkeeping requirements, Travel and transportation expenses, Veterans.

Dated: April 29, 2015
Jeffrey M. Martin,
Program Manager, Office of Regulation Policy & Management, Office of the General Counsel, Department of Veterans Affairs.

Accordingly, the interim final rule amending 38 CFR chapter I by adding a new part 77 that was published at 79 FR 37211 on July 1, 2014, is adopted as a final rule with the following changes:

PART 77—GRANTS FOR ADAPTIVE SPORTS PROGRAMS FOR DISABLED VETERANS AND DISABLED MEMBERS OF THE ARMED FORCES

1. The authority citation is added to read as follows:

Authority: 38 U.S.C. 501, 521A, unless otherwise noted.

2. In § 77.4, revise the parenthetical at the end of the section to read as follows:

§ 77.4 Applications.

* * * * *

(OMB has approved the information collection requirements in this section under control numbers 2900-0820, 4040-0004 for Standard Form 424, and 4040-0008 for Standard Form 424C.)

3. In § 77.6, revise the parenthetical at the end of the section to read as follows:

§ 77.6 Amendments to grant applications.

* * * * *

(OMB has approved the information collection requirements in this section under control number 4040-0004 for Standard Form 424 and 4040-0008 for Standard Form 424C.)

4. In § 77.8, revise the parenthetical at the end of the section to read as follows:

§ 77.8 Additional requirements and procedures for applications.

* * * * *

(OMB has approved the information collection requirements in this section under control number 2900-0820.)

5. In § 77.9, revise the parenthetical at the end of the section to read as follows:

§ 77.9 Use of pre-applications.

* * * * *

(OMB has approved the information collection requirements in this section under control numbers 2900-0820, 4040-0004 for Standard Form 424, and 4040-0008 for Standard Form 424C.)

6. In § 77.13, revise the parenthetical at the end of the section to read as follows:

§ 77.13 Applications for noncompetitive adaptive sports grants.

* * * * *

(OMB has approved the information collection requirements in this section under control number 2900-0820.)

7. In § 77.16, revise the parenthetical at the end of the section to read as follows:

§ 77.16 Grantee reporting requirements.

* * * * *

(OMB has approved the information collection requirements in this section under control number 2900-0820.)

8. In § 77.19, revise the parenthetical at the end of the section to read as follows:

§ 77.19 Financial management.

* * * * *

(OMB has approved the information collection requirements in this section under control number 2900-0820.)

[FR Doc. 2015-10358 Filed 5-1-15; 8:45 am]

BILLING CODE 8320-01-P